FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 201323.

Agreement Name: Hoegh/Hyundai Glovis Global Space Charter Agreement.

Parties: Hoegh Autoliners AS and Hyundai Glovis Co., Ltd.

Filing Party: Wayne Rohde; Cozen O'Connor.

Synopsis: The Agreement authorizes the parties to charter space to/from one another on an “as needed/as available” basis in the trade between all ports in the United States and all ports and points worldwide.

Proposed Effective Date: 12/21/2019.

Location: https://www2.fmc.gov/FMC.Agreements.Web/Public/AgreementHistory/24444.

Agreement No.: 201234-003.

Agreement Name: Agreement by Ocean Common Carriers to Participate on the Exchange Board.

Parties: CMA CGM S.A.; COSCO Shipping Co., Ltd.; COSCO Shipping Lines Co., Ltd.; Hapag Lloyd AG; Hyundai Merchant Marine Co., Ltd.; Maersk Line A/S; Ocean Network Express Pte. Ltd.; and Pacific International Lines (PTE) Ltd.

Filing Party: Ashley Craig and Elizabeth Lowe; Venable LLP.

Synopsis: The amendment adds ONE and PIL as parties to the Agreement.

Proposed Effective Date: 12/19/2019.

Location: https://www2.fmc.gov/FMC.Agreements.Web/Public/AgreementHistory/2064.

Agreement No.: 201235-003.

Agreement Name: Agreement by Ocean Common Carriers to Use Standard Service Contract Terms.

Parties: CMA CGM S.A.; COSCO Shipping Co., Ltd.; COSCO Shipping Lines Co., Ltd.; Hapag Lloyd AG; Hyundai Merchant Marine Co., Ltd.; Maersk Line A/S; Ocean Network Express Pte. Ltd.; Orient Overseas Container Line Limited; OOCL (Europe) Limited; and Pacific International Lines (PTE) Ltd.

Filing Party: Ashley Craig and Elizabeth Lowe; Venable LLP.

Synopsis: The amendment adds ONE and PIL as parties to the Agreement.

Proposed Effective Date: 12/19/2019.

Location: https://www2.fmc.gov/FMC.Agreements.Web/Public/AgreementHistory/2065.

Dated: November 8, 2019.
Rachel E. Dickon,
Secretary.

[FR Doc. 2019-24757 Filed 11-13-19; 8:45 am]

BILLING CODE 6731-AA-P